SMALL BUSINESS ADMINISTRATION

National Small Business Development Center Advisory Board

AGENCY: U.S. Small Business Administration (SBA).

ACTION: Notice of open Federal Advisory Committee meetings.

SUMMARY: The SBA is issuing this notice to announce the location, date, time and agenda for the April 19, 2016 meeting of the National Small Business Development Center (SBDC) Advisory Board.

DATES: The meetings for April 2016 will be held on the following date: Tuesday, April 19, 2016 at 1:00 p.m. EST.

ADDRESSES: These meetings will be held via conference call.

SUPPLEMENTARY INFORMATION: Pursuant to section 10(a) of the Federal Advisory Committee Act (5 U.S.C. Appendix 2), SBA announces the meetings of the National SBDC Advisory Board. This Board provides advice and counsel to the SBA Administrator and Associate Administrator for Small Business Development Centers.

The purpose of these meetings is to discuss following issues pertaining to the SBDC Advisory Board: SBA Update, Annual Meetings, Board Assignments, Member Roundtable.

FOR FURTHER INFORMATION CONTACT: The meeting is open to the public however advance notice of attendance is requested. Anyone wishing to be a listening participant must contact Alanna Falcone by fax or email. Her contact information is Alanna Falcone, Financial Program Analyst, 409 Third Street SW., Washington, DC 20416, Phone, 202-619-1612, Fax 202-481-0134, email, Alanna.falcone@sba.gov.

Additionally, if you need accommodations because of a disability or require additional information, please contact Alanna Falcone at the information above.

Miguel L'Heureux,
White House Liaison.

[FR Doc. 2016-03177 Filed 2-16-16; 8:45 am]

BILLING CODE P